DEPARTMENT OF HEALTH AND HUMAN SERVICES

Centers for Disease Control and Prevention (CDC)

Board of Scientific Counselors, Coordinating Office for Terrorism Preparedness and Emergency Response (BSC, COTPER)

In accordance with section 10(a)(2) of the Federal Advisory Committee Act (Pub. L. 92-463), CDC announces the following meeting of the aforementioned committee:

Name: Board of Scientific Counselors, Coordinating Office for Terrorism Preparedness and Emergency Response.

Times and Dates: 1 p.m.-4:45 p.m., August 5, 2008, 8:30 a.m.-3:30 p.m., August 6, 2008.

Place: CDC, 1600 Clifton Road, NE., Global Communications Center, Building 19, Auditorium B, Atlanta, Georgia 30333.

Status: Open to the public for observation and comment, limited only by the space available. The meeting room accommodates approximately 50 people. The public comment period is planned for 3 p.m. Wednesday, August 6, 2008. Conference phone access is available for the meeting. All participants must register. Those desiring to participate by phone will be sent call access information following registration. The call line will not be interactive.

Purpose: This Board is charged with advising the Secretary of HHS and Director of CDC concerning strategies and goals for the programs and research within COTPER, monitoring the strategic direction and focus of the Divisions, and conducting peer review of scientific programs.

The agenda will include briefing the BSC members about COTPER's mission, strategy, and operations, establishing the BSC procedures for external peer review, determining which COTPER programs will be peer reviewed in Fiscal Year 2009, reviewing the Federal Advisory Board Act requirements, and determining appropriate protocols and procedures under which the Board will pursue their Charter.

Agenda items are subject to change as priorities dictate.

Additional Information: In order to expedite the security clearance process at CDC/Roybal Campus located on Clifton Road. All attendees are required to register online at http://www2a.cdc.gov/nip/COTPER/Registration.asp. Please complete all required fields before submitting your registration and submit no later than July 14, 2008 for non-U.S. citizens and July 20, 2008 for U.S. citizens.

Please Note: In addition to completing the registration form on-line, all non-U.S. citizens are required to complete the “Access Request Form” which will be e-mailed to you upon registration. The completed access request form should be sent by e-mail directly to dmanheim@cdc.gov no later than July 15, 2008. Those planning to participate by conference phone will be sent access information following registration.

Contact Person for More Information: Barbara Ellis, Coordinating Office for Terrorism Preparedness and Emergency Response, CDC, 1600 Clifton Road, NE., Mailstop D-44, Atlanta, Georgia 30333; Telephone (404) 639-1528, FAX: (404) 639-7977. E-mail: COTPER.BSC.Questions@cdc.gov.

The Director, Management Analysis and Service Office, has been delegated the authority to sign Federal Register notices pertaining to announcements of meetings and other committee management activities for both CDC and Agency for Toxic Substances and Disease Registry.

Dated: June 30, 2008.
Elaine L. Baker,
Director, Management Analysis and Service Office, Centers for Disease Control and Prevention.

[FR Doc. E8-15247 Filed 7-3-08; 8:45 am]

BILLING CODE 4163-18-P